DEPARTMENT OF LABOR

[OMB Control No. 1205-0025, Extension With Revision]

Comment Request for Information Collection for Job Corps Application Data

AGENCY: Office of Job Corps.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of Job Corps application data collection forms (OMB Control NO. 1205-0025, expires 05/31/2010): ETA 652, Job Corps Data Sheet, ETA 655, Statement from Court or Other Agency, and ETA 682, Child Care Certification.

Proposed Change: ETA Form 652 currently captures information for a homeless/runaway/foster child in one category. Job Corps proposes a slight modification to this form to capture the information for a homeless/runaway/foster child in three separate categories.

A copy of the proposed Information Collection Request (ICR) can be obtained by contacting the office listed below in the addressee section of this notice.

DATES: Written comments must be submitted to the office listed in the addressee's section below on or before March 29, 2010.

ADDRESSES: Submit written comments to Linda Marshall, Room N4456, Office of Job Corps, 200 Constitution Avenue NW., Washington, DC 20210. Telephone number: 202-693-3106 (this is not a toll-free number). Fax: 202-693-2767. E-mail: marshall.linda@dol.gov.

SUPPLEMENTARY INFORMATION:

I. Background

Job Corps is an intensive, residential training program for at-risk youth age 16 through 24 to address multiple barriers to employment faced by youth throughout the United States. Job Corps is authorized by Title I, Subtitle C, of the Workforce Investment Act (WIA) of 1998. The program is principally carried out through a nationwide network of 123 Job Corps centers. The centers are located at facilities either owned or leased by the Federal Government. The Department has a direct role in the operation of Job Corps, and does not serve as a pass-through agency for this program. It is the Department's responsibility to establish Job Corps centers and to select operators for them. Of the 123 current centers, 28 are operated by the Departments of Agriculture and the Interior, through interagency agreements. These centers are located on Federal lands controlled by these two agencies. The remaining 95 centers are managed and operated by large and small corporations and nonprofit organizations selected by the Department in accordance with the Federal Acquisition Regulations, and in most cases through a competitive procurement process. Many of the current contractors manage and operate more than one center.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

ETA form No. | Total number of respondents | Frequency | Average time per respondent | Total burden hours | Currently approved hours | NET change
Job Corps Application, ETA 652 | 102,833 | 1/person | 10 minutes | 17,139 | 39,397 | −22,258
Statement from Court, ETA 655 | 102,833 | 1/person | 1 minute | 1,714 | 7,644 | −5,930
Child Care Certification, ETA 682 | 4,886 | On occasion | 30 seconds | 41 | 640 | −599
Total |  |  |  | 18,894 | 47,781 | −28,887

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with changes.

Title: Job Corps Application Data.

OMB Number: OMB 1205-0025.

Comments submitted in response to this comment request will be summarized and/or included in the request for Office of Management and Budget approval of the information collection request; they will also become a matter of public record.

Dated: January 25, 2010.
Lynn A. Intrepidi,
Interim National Director, Office of Job Corps.

[FR Doc. 2010-1428 Filed 1-25-10; 8:45 am]

BILLING CODE 4510-23-P